DEPARTMENT OF TRANSPORTATION

Surface Transportation Board

[Docket No. FD 35833]

Soo Line Railroad Company—Trackage Rights Exemption—Dakota, Minnesota & Eastern Railroad Corporation

Dakota, Minnesota & Eastern Railroad Corporation (DM&E), pursuant to a written trackage rights agreement, has agreed to grant nonexclusive, local and overhead trackage rights to Soo Line Railroad Company (SOO) between milepost 159.0+/− on DM&E's Marquette Subdivision at or in the vicinity of Bluff, Minn. (previously known as La Crescent, Minn.), and milepost 96.7 on DM&E's Marquette Subdivision at or in the vicinity of McGregor, Iowa, a distance of approximately 62.3 miles.¹

¹ A parallel trackage rights agreement in which DM&E would acquire trackage rights over SOO's Tomah and Watertown Subdivisions is the subject of the verified notice of exemption that was filed concurrently in Dakota, Minnesota & Eastern Railroad Corporation—Trackage Rights Exemption—Soo Line Railroad Company, Docket No.FD 35834.

The transaction may be consummated on or after July 10, 2014, the effective date of the exemption (30 days after the verified notice of exemption was filed).

According to SOO, the purpose of the transaction is to promote the more efficient and economical movement of freight by allowing SOO continued handling of traffic between SOO's Tomah, Watertown, and M&P Subdivisions and DM&E's Marquette Subdivision.

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Petitions for stay must be filed by July 3, 2014 (at least seven days before the exemption becomes effective).

An original and 10 copies of all pleadings, referring to Docket No. FD 35831, must be filed with the Surface Transportation Board, 395 E Street SW., Washington, DC 20423-0001. In addition, a copy of each pleading must be served on Terence M. Hynes, Sidley Austin LLP, 1501 K Street NW., Washington, DC 20005.

Board decisions and notices are available on our Web site at WWW.STB.DOT.GOV.

Decided: June 23, 2014.
By the Board, Rachel D. Campbell, Director, Office of Proceedings.
Jeffrey Herzig,
Clearance Clerk.

[FR Doc. 2014-14980 Filed 6-25-14; 8:45 am]

BILLING CODE 4915-01-P